DEPARTMENT OF HEALTH AND HUMAN SERVICES

National Institutes of Health

National Cancer Institute; Amended Notice of Meeting

Notice is hereby given of a change in the meeting of the Board of Scientific Counselors, National Cancer Institute, November 4, 2024, 10 a.m. to November 4, 2024, 4:40 p.m., National Institute of Health, Building 31, C Wing, 6th Floor, Conference Room C, 9000 Rockville Pike, Bethesda, MD 20892 which was published in the Federal Register on October 1, 2024, FR Doc 2024-22437, 89 FR 79937.

This meeting notice is being amended to change the meeting format from hybrid to virtual. The meeting is partially Closed to the public.

Dated: October 21, 2024.
David W. Freeman,
Supervisory Program Analyst, Office of Federal Advisory Committee Policy.

[FR Doc. 2024-24876 Filed 10-24-24; 8:45 am]

BILLING CODE 4140-01-P